DEPARTMENT OF COMMERCE

National Oceanic and Atmospheric Administration

15 CFR Part 990

[Docket No: 990608154-9154-01]

RIN 0648-AO36

Natural Resource Damage Assessments

AGENCY: National Oceanic and Atmospheric Administration (NOAA), Commerce.

ACTION: Proposed rule: amendments; reopening of comment period.

SUMMARY: On January 5, 1996, the National Oceanic and Atmospheric Administration (NOAA) promulgated final regulations for the assessment of natural resource damages pursuant to section 1006(e)(1) of the Oil Pollution Act of 1990. The final regulations were challenged, pursuant to section 1017(a) of OPA. On November 18, 1997, the U.S. Court of Appeals for the District of Columbia Circuit issued a ruling on the final regulations (General Electric Co., et al., v. Commerce, 128 F.3d 767 (D.C. Cir. 1997)). NOAA proposed amendments to the final regulations that address the Court's remand as well as other clarifying and technical issues (66 FR 39464). Today's notice reopens and extends the comment period on the proposed amendments by thirty (30) calendar days.

DATES: Written comments must be received no later than November 5, 2001.

ADDRESSES: Written comments are to be submitted to: Eli Reinharz, c/o Office of General Counsel/Natural Resources, 1315 East-West Highway, Room #15132, Silver Spring, MD 20910.

FOR FURTHER INFORMATION CONTACT: Eli Reinharz, 301-713-3038, ext. 193 (FAX: 301-713-4387; e-mail: eli.reinharz@noaa.gov), or Linda Burlington, 301-713-1332 (FAX: 301-713-1229; e-mail: Linda.B.Burlington@noaa.gov).

SUPPLEMENTARY INFORMATION: On July 31, 2001 (61 FR 39464), NOAA published proposed amendments to the final regulations for the assessment of natural resource damages as required by the Oil Pollution Act of 1990. General Electric and other industry groups challenged the final regulations pursuant to section 1017(a) of OPA. On November 18, 1997, the U.S. Court of Appeals for the District of Columbia Circuit issued a ruling on the final regulations (General Electric Co., et al., v. Commerce, 128 F.3d 767 (D.C. Cir. 1997)). The Court remanded to NOAA for further agency decisionmaking: (1) authorization for the removal of residual oil; and (2) the scope of authorization for recovery of legal costs. NOAA also proposed clarifying and technical amendments in other parts of the regulations.

NOAA requested comments to its proposed amendments by September 29, 2001. NOAA has received requests to extend the comment period on the proposed amendments. Since NOAA wants to encourage a thorough and thoughtful review of all components of the proposed amendments, the comment period is being reopened and extended an additional thirty (30) calendar days.

Dated: September 28, 2001.
Jamison S. Hawkins,
Deputy Assistant Administrator for Ocean Services and Coastal Zone Management.

[FR Doc. 01-24920 Filed 10-4-01; 8:45 am]

BILLING CODE 3510-JE-P